DEPARTMENT OF COMMERCE

International Trade Administration

[A-580-878, C-580-879, A-580-881, C-580-882]

Certain Cold-Rolled Steel Flat Products and Certain Corrosion-Resistant Steel Products From the Republic of Korea: Final Results of Antidumping and Countervailing Duty Changed Circumstances Reviews

AGENCY: Enforcement and Compliance, International Trade Administration, Department of Commerce.

SUMMARY: On August 30, 2022, the U.S. Department of Commerce (Commerce) published the notice of initiation and preliminary results of changed circumstances reviews (CCR) of the antidumping duty (AD) and countervailing duty (CVD) orders on certain cold-rolled steel flat products (cold-rolled steel) and certain corrosion-resistant steel products (CORE) from the Republic of Korea (Korea). For these final results, Commerce continues to find that KG Steel Corporation (dba KG Dongbu Steel Co., Ltd.) (KG Steel) is the successor-in-interest to KG Dongbu Steel Co., Ltd. (KG Dongbu Steel) in the context of the AD and CVD orders on cold-rolled steel and CORE from Korea. Furthermore, KG Steel is entitled to KG Dongbu Steel's AD and CVD cash deposit rates with respect to entries of subject merchandise in each of the above-referenced proceedings.

DATES: Applicable October 21, 2022.

FOR FURTHER INFORMATION CONTACT: Natasia Harrison, AD/CVD Operations, Office VI, Enforcement and Compliance, International Trade Administration, U.S. Department of Commerce, 1401 Constitution Avenue NW, Washington, DC 20230; telephone: (202) 482-1240.

SUPPLEMENTARY INFORMATION:

Background

On August 30, 2022, Commerce published the Initiation and Preliminary Results, finding that KG Steel is the successor-in-interest to KG Dongbu Steel, and should be assigned the same AD and CVD cash deposit rates assigned to KG Dongbu Steel in each of the above-referenced proceedings.¹ In the Initiation and Preliminary Results, interested parties were provided an opportunity to comment and request a public hearing regarding our preliminary findings. KG Steel submitted comments agreeing with our preliminary findings, and we received no other comments from interested parties.² Additionally, we received no requests for a public hearing from interested parties.

¹ See Certain Cold-Rolled Steel Flat Products and Certain Corrosion-Resistant Steel Products from the Republic of Korea: Notice of Initiation and Preliminary Results of Antidumping Duty and Countervailing Duty Changed Circumstances Reviews, 87 FR 52905 (August 30, 2022) (Initiation and Preliminary Results), and accompanying Preliminary Decision Memorandum (PDM).

² See KG Steel's Letter, “Certain Corrosion-Resistant Steel Products and Certain Cold-Rolled Steel Flat Products from the Republic of Korea, Case Nos. A-580-878, A-580-881: KG Steel Corporation's Case Brief,” dated September 6, 2022.

Scope of the Orders

The products covered by these CCRs are cold-rolled steel and CORE from Korea. For full descriptions of the scope of each of the respective orders, see the Initiation and Preliminary Results and accompanying Preliminary Decision Memorandum.³

³ See Initiation and Preliminary Results PDM.

Final Results of the Changed Circumstances Reviews

For the reasons stated in the Initiation and Preliminary Results, and because we received no comments from interested parties to the contrary, Commerce continues to find that KG Steel is the successor-in-interest to KG Dongbu Steel for AD and CVD purposes. As a result of this determination, KG Steel is entitled to the same AD and CVD cash deposit rates as KG Dongbu Steel with respect to entries of subject merchandise in the above-noted proceedings.⁴

⁴ In accordance with this Federal Register notice, KG Steel Corporation and KG Dongbu Steel Co., Ltd. will receive the AD and CVD cash deposit rates assigned to KG Dongbu Steel Co., Ltd. under the AD and CVD orders on cold-rolled steel and CORE from Korea.

Commerce will instruct U.S. Customs and Border Protection to suspend liquidation of all shipments of subject merchandise produced or exported by KG Steel and entered, or withdrawn from warehouse, for consumption on or after the publication date of this notice in the Federal Register at the current AD and CVD cash deposit rates on cold-rolled steel and CORE in effect for KG Dongbu Steel. These cash deposit requirements shall remain in effect until further notice.

Notification to Interested Parties

This notice is published in accordance with sections 751(b)(1) and 777(i)(1) and (2) of the Tariff Act of 1930, as amended, and 19 CFR 351.216(e), 351.221(b), and 351.221(c)(3).

Dated: October 12, 2022.
Lisa W. Wang,
Assistant Secretary for Enforcement and Compliance.

[FR Doc. 2022-22858 Filed 10-20-22; 8:45 am]

BILLING CODE 3510-DS-P